DEPARTMENT OF LABOR

Employment and Training Administration

[TA-W-56,323]

Springs Industries, Anderson, SC; Notice of Termination of Investigation

Pursuant to Section 221 of the Trade Act of 1974, as amended, an investigation was initiated on January 12, 2005 in response to a petition filed by a company official on behalf of workers at Springs Industries, Anderson, South Carolina.

The petitioning group of workers is covered by an earlier petition instituted on January 5, 2005 (TA-W-56,295) that is the subject of an ongoing investigation for which a determination has not yet been issued. Further investigation in this case would duplicate efforts and serve no purpose; therefore the investigation under this petition has been terminated.

Signed at Washington, DC this 4th day of February 2005.
Richard Church,
Certifying Officer, Division of Trade Adjustment Assistance.

[FR Doc. E5-1110 Filed 3-14-05; 8:45 am]

BILLING CODE 4510-30-P